DEPARTMENT OF COMMERCE

International Trade Administration

[A-570-822]

Certain Helical Spring Lock Washers from the People's Republic of China: Notice of Extension of Time Limit for the Preliminary Results of the Ninth Antidumping Duty Administrative Review

AGENCY: Import Administration, International Trade Administration, Department of Commerce.

SUMMARY: The Department of Commerce is extending the time limit for the preliminary results of the ninth administrative review of the antidumping duty order on certain helical spring lock washers from the People's Republic of China. The period of review is October 1, 2001 through September 30, 2002.

EFFECTIVE DATE: June 4, 2003.

FOR FURTHER INFORMATION CONTACT: Sally Hastings or Geoffrey Craig, Office of AD/CVD Enforcement I, Import Administration, U.S. Department of Commerce, 14th Street and Constitution Avenue, NW., Washington, DC 20230; telephone (202) 482-3464 or (202) 482-5256, respectively.

SUPPLEMENTARY INFORMATION:

Background

The petitioner, Shakeproof Assembly Components Division of Illinois Tool Works, and the respondent, Hang Zhou Spring Washer Co., Ltd., also known as Zhejiang Wanxin Group Co., Ltd., (Hangzhou), requested an administrative review of the antidumping duty order on certain helical spring lock washers for the period from October 1, 2001 to September 30, 2002, on October 21, 2002 and October 31, 2002, respectively. Hangzhou also requested revocation of the order with respect to itself. The Department initiated the ninth antidumping duty administrative review of certain helical spring lock washers from the People's Republic of China, covering the period from October 1, 2001 to September 30, 2002, and on the request for revocation of the antidumping duty order in part on November 22, 2002. See Initiation of Antidumping and Countervailing Duty Administrative Reviews and Requests for Revocation in Part, 67 FR 70402 (November 22, 2002). The preliminary results are currently due on July 3, 2002.

Statutory Time Limits

Section 751(a)(3)(A) of the Act requires the Department to issue the preliminary results within 245 days after the last day of the anniversary month of the order for which a review is requested. However, if it is not practicable to issue the preliminary results within the time period, section 751(a)(3)(A) of the Act allows the Department to extend this deadline to a maximum of 365 days.

We are currently developing factor value information. In addition, we plan to verify Hangzhou's response, in accordance with 19 CFR 351.307(b)(1)(iii). Accordingly, the Department has determined that it is not practicable to issue the preliminary results within the 245-day time period. Therefore, we are extending the time limit for completion of the preliminary results of this administrative review for 120 days, until no later than October 31, 2003.

This notice is published pursuant to sections 751(a)(1) and 777(i)(1) of the Act.

Dated: May 29, 2003.
Jeffrey May,
Deputy Assistant Secretary for Import Administration.

[FR Doc. 03-14038 Filed 6-3-02; 8:45 am]

BILLING CODE 3510-DS-S